DEPARTMENT OF TRANSPORTATION

Research and Special Programs Administration

49 CFR Parts 173 and 179

[Docket No. RSPA-2001-9567 (HM-189R)]

RIN 2137-AD51

Hazardous Materials Regulations: Minor Editorial Corrections and Clarifications; Correction

AGENCY: Research and Special Programs Administration (RSPA), DOT.

ACTION: Final rule; correction.

SUMMARY: On Tuesday, August 28, 2001, RSPA published a final rule under Docket HM-189R which amended the Hazardous Materials Regulations (HMR) to correct inconsistencies in terminology and editorial errors to improve the clarity of the HMR. This final rule makes certain corrections to the August 28, 2001 final rule.

EFFECTIVE DATE: September 27, 2001.

FOR FURTHER INFORMATION CONTACT: Gigi Corbin, Office of Hazardous Materials Standards, (202) 366-8553, Research and Special Programs Administration, U.S. Department of Transportation, 400 Seventh Street, SW., Washington, DC 20590-0001.

SUPPLEMENTARY INFORMATION:

Background

On August 28, 2001, RSPA published a final rule under Docket HM-189R (66 FR 45376) to correct inconsistencies in terminology and minor editorial errors to improve the clarity of the HMR. This final rule makes minor corrections to the August 28, 2001 final rule, which was effective September 27, 2001.

Because the amendments do not impose new requirements, notice and public procedure are unnecessary. The following is a summarization of the corrections made under this final rule.

Summary of Changes

Part 173

In amendatory instruction 55, for the entry for § 173.133, we are removing the reference for paragraph (b)(1)(ii). In addition, we are adding new amendatory instruction 71a. to correct the formula in § 173.133, paragraph (b)(1)(ii), by removing the acronym “ml” and adding the acronym “mL” in its place.

Part 179

In amendatory instruction 198, for the entry “§ 179.220-24” the word “heading” is removed.

Accordingly, in the final rule, FR Doc. 01-16660, published at 66 FR 45376, make the following corrections:

PART 173—[CORRECTED]

§ 173.133 [Corrected]

1. On page 45381, in column 1, in amendatory instruction 55, for the entry § 173.133, the paragraph reference “(b)(1)(ii),” is removed.

2. On page 45382, in column 1, a new amendatory instruction 71a. is added to read as follows:

71a. In § 173.133, in paragraph (b)(1)(ii), the formula is revised to read as follows:

§ 173.133 Assignment of packing group and hazard zones for Division 6.1 materials.

* * * * *

(b) * * *

(1) * * *

(ii) * * *

* * * * *

PART 179—[CORRECTED]

§ 179.220-24 [Corrected]

3. On page 45390, in column 2, in amendatory instruction 198, for the entry “179.220-24” remove the word “heading”.

Issued in Washington, DC, on September 21, 2001, under authority delegated in 49 CFR part 1.
Edward A. Brigham,
Acting Deputy Administrator.

[FR Doc. 01-24417 Filed 9-27-01; 8:45 am]

BILLING CODE 4910-60-P